DEPARTMENT OF TRANSPORTATION

Surface Transportation Board

[STB Finance Docket No. 33904]

Thomas Z. Mars—Continuance in Control Exemption—Sunflour Railroad, Inc.

Thomas Z. Mars (Mars), an individual, has filed a notice of exemption to continue in control of the Sunflour Railroad, Inc. (SFR), upon SFR's becoming a Class III railroad.

The transaction is scheduled to be consummated on July 31, 2000.

This transaction is related to STB Finance Docket No. 33903, Sunflour Railroad, Inc.—Acquisition and Operation Exemption—Soo Line Railroad Company, wherein SFR seeks to acquire from Soo Line Railroad Company and operate an approximately 26.3-mile rail line extending from Rosholt to Veblen, SD.

Mars currently controls one existing Class III railroad: Denver Rock Island Railroad (DRI), operating in the State of Colorado.

Mars states that: (i) The rail lines to be operated by SFR and DRI do not connect; (ii) the transaction is not part of a series of anticipated transactions that would result in such a connection; and (iii) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the notice contains false or misleading information, the exemption is void ab initio. Petitions to revoke the exemption under 49 U.S.C. 10502(d) may be filed at any time. The filing of a petition to revoke will not automatically stay the transaction.

An original and 10 copies of all pleadings, referring to STB Finance Docket No. 33904, must be filed with the Surface Transportation Board, Office of the Secretary, Case Control Unit, 1925 K Street, NW, Washington, DC 20423-0001. In addition, a copy of each pleading must be served on William C. Sippel, Esq., Fletcher & Sippel LLC, Two Prudential Plaza, Suite 3125, 180 North Stetson Avenue, Chicago, IL 60601-6721.

Board decisions and notices are available on our website at “WWW.STB.DOT.GOV.”

Decided: July 19, 2000.
By the Board, David M. Konschnik, Director, Office of Proceedings.
Vernon A. Williams,
Secretary.

[FR Doc. 00-18798 Filed 7-24-00; 8:45 am]

BILLING CODE 4910-00-P